DEPARTMENT OF VETERANS AFFAIRS

[OMB Control No. 2900-0017]

Proposed Information Collection (VA Forms 21P-4706b, 21-4706c, 21-4718a) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision with extension of a currently approved collection, and allow 60 days for public comment in response to the notice. This notice solicits comments on information provided by VA federal fiduciaries management of beneficiary funds.

DATES: Written comments and recommendations on the proposed collection of information should be received on or before October 2, 2015.

ADDRESSES: Submit written comments on the collection of information through Federal Docket Management System (FDMS) at www.Regulations.gov or to Nancy J. Kessinger, Veterans Benefits Administration (20M33), Department of Veterans Affairs, 810 Vermont Avenue NW., Washington, DC 20420 or email to nancy.kessinger@va.gov. Please refer to “OMB Control No. 2900-0017” in any correspondence. During the comment period, comments may be viewed online through the FDMS.

FOR FURTHER INFORMATION CONTACT: Nancy J. Kessinger at (202) 632-8924 or FAX (202) 632-8925.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: (a) VA Fiduciary's Account (VA Form 21P-4706b),

(b) Court Appointed Fiduciary's Account (VA Form 21P-4706c), and

(c) Certificate of Balance on Deposit and Authorization to Disclose Financial Records (VA Form 21-4718a).

OMB Control Number: 2900-0017.

Type of Review: Extension of a currently approved collection and minor changes.

Abstract: VA maintains supervision of the distribution and use of VA benefits paid to fiduciaries on behalf of VA claimants who are incompetent, a minor, or under legal disability. The forms are used to verify beneficiaries' deposit remaining at a financial institution against a fiduciary's accounting. The following forms will be used to ensure claimants' benefits payments are administered properly.

(a) VA Forms 21P-4706b and 4706c are used by estate to determine proper usage of benefits paid to fiduciaries. The 21P-4706b are both necessary to conform to requirement of various State courts.

(b) VA Form 21-4718a—Fiduciaries are required to obtain certifications that the balances remaining on deposit in financial institutions as shown on accountings are correct. Certifying official at a financial institution completing the form must affix the institution's official seal or stamp. The data collected is used to appoint an appropriate fiduciary for a VA beneficiary and to prevent fiduciaries from supplying false certification, embezzling funds, and possibly prevent and/or identify fraud, waste and abuse of government funds paid to fiduciaries on behalf of VA beneficiaries.

Affected Public: Individuals or households.

Estimated Annual Burden: 17,850.

(a) 21P-4706b: 12,600.

(b) 21P-4706c: 3,500.

(c) 21-4718a: 1,750.

Estimated Average Burden per Respondent:

(a) 21P-4706b: 27 minutes.

(b) 21P-4706c: 30 minutes.

(c) 21-4718: 3 minutes.

Frequency of Response: Annually.

Estimated Number of Respondents: 35,000.

By direction of the Secretary.
Kathleen M. Manwell,
Program Analyst, VA Privacy Service, Office of Privacy and Records Management, Department of Veterans Affairs.

[FR Doc. 2015-18923 Filed 7-31-15; 8:45 am]

BILLING CODE 8320-01-P